DEPARTMENT OF AGRICULTURE

Commodity Credit Corporation

Domestic Sugar Program—FY 2025 Reassignment of the Overall Sugar Marketing Allotment, Cane Sugar and Beet Sugar Marketing Allotments and Company Allocations and No Actions Under the Feedstock Flexibility Program

AGENCY: Commodity Credit Corporation, U.S. Department of Agriculture.

ACTION: Notice.

SUMMARY: The United States Department of Agriculture (USDA) is issuing this notice to: revise fiscal year (FY) 2025 (crop year 2024) beet sugar allocations to sugar beet processors; state cane sugar allotments and allocations to sugarcane processors; and to reassign FY 2025 cane sugar marketing allocations to raw cane sugar imports already anticipated. These actions apply to all domestic beet and cane sugar marketed in the United States from October 1, 2024, through September 30, 2025. USDA's Commodity Credit Corporation (CCC) also announced today that it does not expect to purchase and sell sugar under the Feedstock Flexibility Program for crop year 2024, which runs from Oct. 1, 2024, to Sept. 30, 2025.

FOR FURTHER INFORMATION CONTACT: Carlann Unger; telephone: (773) 573-5163; or email: Carlann.Unger@usda.gov. Individuals with disabilities who require alternative means for communication should contact the USDA Target Center at (202) 720-2600 (voice and text telephone (TTY mode)) or dial 711 for Telecommunications Relay service (both voice and text telephone users can initiate this call from any telephone).

SUPPLEMENTARY INFORMATION:

Reassignments of FY 2025 Beet Sugar Allocations and Cane Sugar Allotments and Allocations

In accordance with section 359e of the Agricultural Adjustment Act of 1938 (7 U.S.C. 1359ee), after evaluating each sugar beet and sugarcane processor's ability to market its full allocation, USDA is transferring FY 2025 allocations from sugar beet processors with a surplus allocation to those with a deficit allocation. Similarly, USDA is transferring FY 2025 allocations from Florida sugarcane processors with a surplus allocation to Louisiana sugarcane processors with a deficit allocation. USDA has determined that, after these actions, domestic cane sugar supplies are still inadequate to fill the FY 2025 cane sugar marketing allotment.

In accordance with 7 U.S.C. 1359ee(b)(1), USDA is reassigning 500,000 STRV of the cane allotment deficit to raw cane sugar imports already anticipated, given the absence of any CCC stocks of sugar. In Table 1 below, the amount of change in each processor's allocation is in the column labeled “Reassignments.” Each processor's allocation resulting from these changes is shown in the column labeled “Revised FY25 Allocations.”

USDA is not reassigning any FY 2025 beet allocations to raw cane sugar imports at this time given the uncertainty about how much beet sugar will be produced from new crop sugar beets in the final two months (August-September) of FY 2025.

Table 1—FY 2025 Revised Beet and Cane Allotments and Allocations
[Short tons, raw value]
Distribution | Initial FY25 allotments & allocations | Reassignments | Revised FY25 allocations
Beet Sugar | 5,682,293 | 0 | 5,682,293
Cane Sugar | 4,772,708 | −500,000 | 4,272,708
Imports |  | 500,000 | 500,000
Total OAQ | 10,455,000 | 0 | 10,455,500
Beet Processors' Marketing Allocations
Amalgamated Sugar Co | 1,216,622 | 71,485 | 1,288,108
American Crystal Sugar Co | 2,089,791 | −77,569 | 2,012,222
Michigan Sugar Co | 586,842 | 31,949 | 618,791
Minn-Dak Farmers Co-op | 394,629 | 20,636 | 415,266
So. Minn Beet Sugar Co-op | 766,929 | −59,388 | 707,541
Western Sugar Co | 579,901 | 1,652 | 581,552
Wyoming Sugar Company, LLC | 47,579 | 11,234 | 58,813
Total Beet Sugar | 5,682,293 | 0 | 5,682,293
State Cane Sugar Allotments
Florida | 2,690,953 | −611,752 | 2,079,201
Louisiana | 2,081,755 | 111,752 | 2,193,506
Texas | 0 | 0 | 0
Total Cane Sugar | 4,772,708 | −500,000 | 4,272,708
Cane Processors' Marketing Allocations
Florida:
Florida Crystals | 1,107,936 | −383,199 | 724,737
Growers Co-op. of FL | 484,063 | −73,170 | 410,893
U.S. Sugar Corp | 1,098,954 | −155,383 | 943,571
Total Florida | 2,690,953 | −611,752 | 2,079,201
Louisiana:
Sugar Growers and Refiners | 1,445,222 | 55,879 | 1,501,101
M.A. Patout & Sons | 636,533 | 55,873 | 692,406
Total Louisiana | 2,081,755 | 111,752 | 2,193,506
* Values may not sum to column total due to rounding.

USDA will closely monitor stocks, consumption, imports and all sugar market and program variables on an ongoing basis and may make program adjustments during FY 2025 if needed.

USDA Announces No Actions Under Feedstock Flexibility Program

USDA does not currently expect to purchase and sell sugar under the Feedstock Flexibility Program for crop year 2024.

The next quarterly estimate regarding the Feedstock Flexibility Program will occur on or before September 1, 2025.

William Beam,
Executive Vice President, Commodity Credit Corporation.

[FR Doc. 2025-13367 Filed 7-16-25; 8:45 am]

BILLING CODE 3411-E2-P